DEPARTMENT OF ENERGY

Federal Energy Regulatory Commission

[Docket No. EL08-85-000]

California Independent System Operator Corporation; Notice of Institution of Proceeding and Refund Effective Date

April 29, 2008.

On August 29, 2008, the Commission issued an order that instituted a proceeding in Docket No. EL08-85-000, pursuant to section 206 of the Federal Power Act (FPA), 16 U.S.C. 824e (2005), to consider the justness and reasonableness of granting the requested waiver of the 60-day notice requirement contained in the original Participating Load Agreement between the California Independent System Operator Corporation and the California Department of Water Resources State Water Project. California Independent System Operator Corporation, 124 FERC ¶ 61,205 (2008).

The refund effective date in Docket No. EL08-85-000, established pursuant to section 206(b) of the FPA, will be the date of publication of this notice in the Federal Register.

Kimberly D. Bose,
Secretary.

[FR Doc. E8-20712 Filed 9-5-08; 8:45 am]

BILLING CODE 6717-01-P